DEPARTMENT OF THE INTERIOR

National Park Service

Notice of Inventory Completion: Oregon State University Department of Anthropology, Corvallis, OR; Correction

AGENCY: National Park Service, Interior.

ACTION: Notice; correction.

Notice is here given in accordance with the Native American Graves Protection and Repatriation Act (NAGPRA), 25 U.S.C. 3003, of the completion of an inventory of human remains in the possession of Oregon State University Department of Anthropology, Corvallis, OR. The human remains were removed from Harney County, OR.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

The accession record number for human remains described in a Notice of Inventory Completion published in the Federal Register (74 FR 20944, April 17, 2008) was listed incorrectly. This notice deletes the reference to the accession number in the Federal Register of April 17, 2008, by substituting the following paragraph for paragraph number 4:

On an unknown date, human remains representing a minimum of one individual were removed from a site in Drewsey, Harney County, OR. The donor and circumstances of removal are unknown. No known individual was identified. No associated funerary objects are present.

Representatives of any other Indian tribe that believes itself to be culturally affiliated with the human remains should contact Dr. David McMurray, Oregon State University Department of Anthropology, 238 Waldo Hall, Corvallis, OR 97331, telephone (541) 737-4515, before August 6, 2009. Repatriation of the human remains to the Burns Paiute Tribe of the Burns Paiute Indian Colony of Oregon may proceed after that date if no additional claimants come forward.

Oregon State University Department of Anthropology is responsible for notifying the Burns Paiute Tribe of the Burns Paiute Indian Colony of Oregon; Confederated Tribes of the Coos, Lower Umpqua and Siuslaw Indians of Oregon; Confederated Tribes of the Grand Ronde Community of Oregon; Confederated Tribes of the Siletz Reservation, Oregon; Confederated Tribes of the Umatilla Indian Reservation, Oregon; Confederated Tribes of the Warm Springs Reservation of Oregon; Coquille Tribe of Oregon; Cow Creek Band of Umpqua Indians of Oregon and the Klamath Tribes, Oregon that this notice has been published.

Dated: June 15, 2009
Sherry Hutt,
Manager, National NAGPRA Program.

[FR Doc. E9-16015 Filed 7-6-09; 8:45 am]

BILLING CODE 4312-50-S